DEPARTMENT OF COMMERCE

National Oceanic and Atmospheric Administration

DEPARTMENT OF THE INTERIOR

Fish and Wildlife Service

[I.D. 063000C]

Availability of a Final Environmental Impact Statement for the Proposed Issuance of Incidental Take Permits to Simpson Timber Company, Northwest Operations, Thurston, Mason, and Grays Harbor Counties, Washington

AGENCIES: National Marine Fisheries Service (NMFS), National Oceanic and Atmospheric Administration (NOAA), Commerce; Fish and Wildlife Service, Interior.

ACTION: Notice of availability of a final environmental impact statement.

SUMMARY: This notice announces the availability of a Final Environmental Impact Statement (Statement) for public review. The Statement addresses the proposed issuance of Incidental Take Permits (Permits) to Simpson Timber Company, Northwest Operations (Simpson), for forest management and timber harvest on their lands in Thurston, Mason, and Grays Harbor Counties, Washington. Simpson submitted applications on September 29, 1999, to the Fish and Wildlife Service and the National Marine Fisheries Service (together, the Services) for Permits pursuant to the Endangered Species Act of 1973, as amended (Act). The proposed Permits would authorize take of the following endangered or threatened species incidental to otherwise lawful management activities: marbled murrelet (Brachyramphus marmoratus marmoratus), bald eagle (Haliaeetus leucocephalus), Puget Sound chinook salmon (Oncorhynchus tshawytscha), Hood Canal summer run chum salmon (Oncorhynchus keta), and bull trout (Salvelinus confluentus). Simpson is also seeking coverage for 47 currently unlisted species under specific provisions of the Permits, should these species be listed in the future. The duration of the proposed Permits is 50 years. This notice is provided pursuant to the Act, and National Environmental Policy Act regulations.

ADDRESSES: Requests for the documents should be made by calling the U.S. Fish and Wildlife Service at (360)534-9330. Copies are also available for viewing, or partial or complete duplication, at the following libraries: Olympia Timberland Library, Reference Desk, 313 8th Avenue SE, Olympia, WA, (360)352-0595; William G. Reed Library, Reference Desk, 710 West Alder Street, Shelton, WA, (360)426-1362; Hoodsport Timberland Library, 40 North Schoolhouse Hill Road, Hoodsport, WA, (360)877-9339; Elma Timberland Library, Information Desk, 118 North 1st Street, Elma, WA, (360)482-3737; W.H. Abel Public Library, Information Desk, 125 Main Street South, Montesano, WA, (360)249-4211; and, Aberdeen Timberland Library, Reference Desk, 121 East Market Street, Aberdeen, WA, (360)533-2360.

SUPPLEMENTARY INFORMATION: Section 9 of the Act and Federal regulations prohibit the “taking” of a species listed as endangered or threatened. The term take is defined under the Act to mean harass, harm, pursue, hunt, shoot, wound, kill, trap, capture, or collect, or to attempt to engage in any such conduct. Harm is defined to include significant habitat modification or degradation where it actually kills or injures wildlife by significantly impairing essential behavioral patterns, including breeding, feeding, and sheltering.

The Services may issue permits, under limited circumstances, to take listed species incidental to, and not the purpose of, otherwise lawful activities. U.S. Fish and Wildlife Service regulations governing permits for endangered species are promulgated in 50 CFR 17.22; and, regulations governing permits for threatened species are promulgated in 50 CFR 17.32. National Marine Fisheries Service regulations governing permits for threatened and endangered species are promulgated at 50 CFR 222.307. A permit decision will occur, and a Record of Decision will be published, no sooner than 30 days from this notice.

Background

Simpson owns and manages approximately 261,575 acres of commercial timberland in Thurston, Mason and Grays Harbor counties, Washington. These properties are located from just south of Highway 8, north into the southern foothills of the Olympic Mountains, and west across the Wynoochee River valley to the City of Aberdeen's Wishkah watershed. Management activities on the tree farm include forest management and timber harvest.

Some forest management and timber harvest activities have the potential to impact species subject to protection under the Act. Section 10 of the Act contains provisions for the issuance of Permits to non-Federal land owners for the take of endangered and threatened species, provided the take is incidental to otherwise lawful activities, and will not appreciably reduce the likelihood of the survival and recovery of the species in the wild. In addition, the landowner or permit applicant must prepare and submit to the Services for approval, a Habitat Conservation Plan (Plan) containing a strategy for minimizing and mitigating all take associated with the proposed activities to the maximum extent practicable. The applicant must also ensure that adequate funding for the Plan will be provided.

Simpson has developed a Plan with technical assistance from the Services, to obtain Permits for their activities on the subject lands. Activities proposed for this Permit include the following: all aspects of mechanized timber harvest, log transportation, road construction, road maintenance and abandonment, site preparation, tree planting, fertilization, silvicultural thinning, experimental silviculture, controlled burns, wild fire suppression, stream restoration, and the management, harvest, and sale of minor forest products. The Permits and Plan would also cover certain monitoring activities and related scientific experiments in the Plan area. The duration of the proposed Permits and Plan is 50 years.

As an additional measure, Simpson worked with the Environmental Protection Agency and the Washington Department of Ecology to prepare a Total Maximum Daily Load (TMDL) for heat energy to streams. The TMDL was developed to address general and specific water quality concerns within the Action Area, to recognize efforts to meet expectations under the Clean Water Act for protection of beneficial uses, and to provide an additional level of technical rigor that increases the Services assurances about water quality for covered species. The TMDL addresses heat energy delivery to waters in the Plan Area, employing sediment as an “other measure as appropriate” along with shade to assess the effectiveness of land management activities with respect to water quality. Both heat energy and sediment are water quality parameters that affect aquatic life, including salmon and other fishes. Although neither the Plan or TMDL are legally dependant on the other, much of the information and analysis developed for the preparation of the Plan was used in developing the TMDL. The primary link between the Plan and TMDL is that sediment and heat load allocations will serve as benchmarks to assess attainment and progress towards water quality in the adaptive management program set forth in the Plan. The TMDL Technical Assessment Report is included as an appendix to the Plan.

The Services formally initiated an environmental review of the project through a Notice of Intent to prepare a Statement in the Federal Register on February 9, 1999 (64 FR 6325). This notice also announced a 30-day public scoping period, during which other agencies, tribes, and the public were invited to provide comments and suggestions regarding issues and alternatives to be included in the Statement. A draft Statement was subsequently produced and made available for a 62-day public review period on October 22, 1999 (64 FR 57630). Comments received on the draft Statement and responses to those comments are included in the final Statement.

The final Statement fully analyzes a No Action alternative, the Proposed Action, a Forests and Fish Report Alternative, and a Modified Northwest Forest Plan Alternative. Under the No Action Alternative, incidental take permits would not be issued and Simpson would continue a forest management program which avoids take of federally listed species. Under the Forests and Fish Report Alternative incidental take permits would not be issued and Simpson would conduct forest management according to the proposed revisions to the Washington State Forest Practices Act, and avoid take of federally listed species. Under the Proposed Action, the Services would issue Incidental Take Permits and Simpson would implement their proposed Plan on 261,575 acres of Simpson's Washington timberlands. Under a Modified Northwest Forest Plan Alternative, the Services would issue Incidental Take Permits, and Simpson would implement a Plan with riparian conservation measures providing protective buffers approximately mid-way between the buffers provided by the Northwest Forest Plan and the Proposed Action. Current Washington Forest Practices would be applied where Northwest Forest Plan guidelines are not available.

Dated: June 27, 2000.
Don Weathers,
Acting Regional Director, Fish and Wildlife Service, Region 1, Portland, Oregon.

Dated: July 14, 2000.
Wanda L. Cain,
Chief, Endangered Species Division, Office of Protected Resources, National Marine Fisheries Service.

[FR Doc. 00-18418 Filed 7-19-00; 8:45 am]

BILLING CODE 3510-22-F, 4310-55-F